DEPARTMENT OF COMMERCE

International Trade Administration

[A-570-954, C-570-955]

Certain Magnesia Carbon Bricks From the People's Republic of China: Final Determination in Covered Merchandise Inquiry

AGENCY: Enforcement and Compliance, International Trade Administration, Department of Commerce.

SUMMARY: The U.S. Department of Commerce (Commerce) determines that certain refractory brick samples tested by U.S. Customs and Border Protection (CBP) do not reflect the chemical composition of magnesia alumina carbon (MAC) bricks and are covered by the antidumping duty (AD) and countervailing duty (CVD) orders on certain magnesia carbon bricks (bricks) from the People's Republic of China (China). Additionally, Commerce finds that it is unable to determine whether certain other samples tested by CBP have the chemical composition of a bricks subject to the AD and CVD orders on bricks from China.

DATES: Applicable May 4, 2023.

FOR FURTHER INFORMATION CONTACT: Brittany Bauer, AD/CVD Operations Office V, Enforcement and Compliance, International Trade Administration, U.S. Department of Commerce, 1401 Constitution Avenue NW, Washington, DC 20230; telephone: (202) 482-3860.

SUPPLEMENTARY INFORMATION:

Background

On February 17, 2023, Commerce published in the Federal Register the preliminary results of this covered merchandise inquiry, determining that certain refractory bricks are subject to the AD and CVD orders on bricks from China.¹ Commerce received comments from Fedmet Resources Corporation (Fedmet) ² and the Magnesia Carbon Bricks Fair Trade Committee (Committee).³ For a complete description of the events that followed the Preliminary Results, see the Issues and Decision Memorandum.⁴

¹ See Certain Magnesia Carbon Bricks from the People's Republic of China: Preliminary Results of Covered Merchandise Inquiry, 88 FR 10292 (February 17, 2023) (Preliminary Results). See also Certain Magnesia Carbon Bricks from Mexico and the People's Republic of China: Antidumping Duty Orders,75 FR 57257 (September 20, 2010); and Certain Magnesia Carbon Bricks from the People's Republic of China: Countervailing Duty Order, 75 FR 57442 (September 21, 2010) (collectively, Orders).

² See Fedmet's Letter, “Fedmet's Case Brief,” dated February 28, 2023.

³ See Committee's Letter, “Rebuttal Brief,” dated March 7, 2023.

⁴ See Memorandum, “Decision Memorandum for the Final Determination of Covered Merchandise Inquiry—EAPA Inv. 7412: Certain Magnesia Carbon Bricks from the People's Republic of China,” dated concurrently with, and hereby adopted by, this notice (Issues and Decision Memorandum).

The Issues and Decision Memorandum is a public document and is on file electronically via Enforcement and Compliance's Antidumping and Countervailing Duty Centralized Electronic Service System (ACCESS). ACCESS is available to registered users at https://access.trade.gov. In addition, the Issues and Decision Memorandum can be accessed directly at https://access.trade.gov/public/FRNoticesListLayout.aspx.

Scope of the Orders

The merchandise covered by the Orders is magnesia carbon bricks. For a complete description of the scope of the Orders, see the Issues and Decision Memorandum.

Merchandise Subject to the Covered Merchandise Inquiry

The products subject to this inquiry are certain refractory bricks which were imported by Fedmet. CBP's laboratories tested 11 samples from these bricks and provided the results of chemical composition tests for the merchandise in its referral to Commerce.

Analysis of Comments Received

All issues raised in the case and rebuttal briefs that were submitted by parties in this inquiry are addressed in the Issues and Decision Memorandum. For a list of the issues raised by interested parties and addressed in the Issues and Decision Memorandum, see the Appendix to this notice.

Final Determination

We determine, pursuant to 19 CFR 351.227(e)(2), that certain bricks tested by CBP laboratories do not constitute (non-subject) MAC bricks and, thus, are subject to the scope of the Orders. Although we can make such a determination for two of the eleven brick samples, the information on the remaining nine samples is indeterminate regarding the proper scope classification for the underlying products tested by CBP. In reaching this determination, we relied on information placed on the record by the Committee and Fedmet, as well as the documents included with the referral from CBP. For a full description of the analysis underlying our conclusions, see the Issues and Decision Memorandum.

Continuation of Suspension of Liquidation

As stated above, Commerce has made an affirmative finding that certain of the bricks tested by CBP, which were the subject of this referral from CBP, are subject to the scope of the Orders. This affirmative in-scope finding applies on a country-wide basis, regardless of the producer, exporter, or importer, to all products from the same country with the same relevant physical characteristics as the products at issue that were determined to be within the scope of the Orders. Therefore, in accordance with 19 CFR 351.227(l)(3), Commerce will direct CBP to: (1) continue the suspension of liquidation of previously suspended entries and apply the applicable cash deposit rate; (2) suspend liquidation and require a cash deposit of estimated duties, at the applicable rate, for each unliquidated entry of the product not yet suspended, entered, or withdrawn from warehouse, for consumption on or after July 20, 2022, the date of publication of the notice of initiation of this covered merchandise inquiry in the Federal Register; and (3) suspend liquidation and require a cash deposit of estimated duties, at the applicable rate, for each unliquidated entry of the product not yet suspended, entered, or withdrawn from warehouse, for consumption prior to July 20, 2022, but after November 4, 2021.⁵

⁵ See Certain Magnesia Carbon Bricks from the People's Republic of China: Notice of Covered Merchandise Referral and Initiation of Covered Merchandise Inquiry, 87 FR 43238 (July 20, 2022).

Customs and Border Protection Notification

In accordance with section 517(b)(4)(B) of the Act, we will notify CBP of the final determination in this covered merchandise inquiry. Commerce will direct CBP to assess, upon further instruction by Commerce, AD and CVD duties on all imports of certain refractory bricks having less than five percent alumina levels upon importation (as measured by a testing protocol that does not create aluminum oxidation in the tested materials, or that accounts for such distortions in the resulting chemical composition analysis) and otherwise meeting the parameters of the scope of the Orders, entered, or withdrawn from warehouse, for consumption on or after the effective date of the suspension of liquidation, as discussed above in the “Continuation of Suspension of Liquidation” section.

Notification Regarding Administrative Protective Order

This notice serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

This notice is issued and published pursuant to section 517 of the Act and 19 CFR 351.227(e)(2).

Dated: April 27, 2023.
Lisa W. Wang,
Assistant Secretary for Enforcement and Compliance.

Appendix

List of Topics Discussed in the Issues and Decision Memorandum

I. Summary

II. Background

III. Scope of the Orders

IV. Description of Merchandise Subject to This Inquiry

V. Discussion of the Issues

Comment 1: Whether Commerce Has Impermissibly Modified the Fedmet Ruling

Comment 2: Whether Commerce Should Find That None of the Brick Samples

Constitute Subject Merchandise

VI. Summary

VII. Recommendation

[FR Doc. 2023-09428 Filed 5-3-23; 8:45 am]

BILLING CODE 3510-DS-P